DEPARTMENT OF THE INTERIOR

Fish and Wildlife Service

RIN 1018-AI56

Fiscal Year 2002 Private Stewardship Grants Program; Proposal Due Date Extension

AGENCY: Fish and Wildlife Service, Interior.

ACTION: Notice; extension of the due date.

SUMMARY: We, the U.S. Fish and Wildlife Service (Service), announce a due-date extension for submission of project proposals for Federal assistance under the fiscal year 2002 Private Stewardship Grants Program (PSGP). Project proposals must now be submitted to the appropriate Service Regional Office by January 15, 2003.

DATES: Project proposals must be received by the appropriate Regional Office (see Table 1 in SUPPLEMENTARY INFORMATION) no later than January 15, 2003.

ADDRESSES: For additional information contact the Service's Regional Office that has the responsibility for the State or Territory in which the proposed project would occur. The contact information for each Regional Office is listed in Table 1 under SUPPLEMENTARY INFORMATION below. Information on the PSGP is also available from the Branch of Recovery and State Grants, U.S. Fish and Wildlife Service, 4401 N. Fairfax Drive, Room 420, Arlington, VA 22203 or electronically at http://endangered.fws.gov/grants/private_stewardship.html or e-mail: Privatestewardship@fws.gov.

To submit a project proposal send your project proposals to the Service's Regional Office that has the responsibility for the State or Territory in which the proposed project would occur (see Table 1 under SUPPLEMENTARY INFORMATION). You must submit one original and two copies of the complete proposal. We will not accept facsimile project proposals.

FOR FURTHER INFORMATION CONTACT: The Program Contact in the appropriate Regional Office identified in Table 1 under SUPPLEMENTARY INFORMATION or Martin Miller, Chief, Branch of Recovery and State Grants (703/358-2061).

SUPPLEMENTARY INFORMATION:

Background

On October 1, 2002, we published in the Federal Register (67 FR 61649) a notice announcing the final implementation guidelines and requesting proposals for the fiscal year 2002 Private Stewardship Grants Program. In that notice, we stated that project proposals must be received by the appropriate Regional Office by no later than December 2, 2002. In order to provide the public with additional time to become familiar with the program requirements and prepare proposals for this new program, we are now extending the due date for submission of project proposals under this program to January 15, 2003.

How To Apply for a PSGP Grant

You must follow the instructions in the October 1, 2002, Federal Register (67 FR 61649) document in order to apply for financial assistance under the PSGP. For a description of the information that must be included in a project proposal, please see “The PSGP Project Proposal” section in the October 1, 2002, Federal Register document. Your project proposal should not be bound in any manner and must be printed on one side only. You must submit one signed original and two signed copies of your project proposal (including supporting information). Your unbound (a binder clip is allowed) project proposal must now be received by the appropriate Regional Office listed in Table 1 by January 15, 2003. We encourage you to contact the Regional contact person listed in Table 1 prior to submitting a project proposal should you have questions regarding what information must be submitted with the project proposal. An incomplete proposal will not be considered for funding.

Table 1.—Where To Send Project Proposals and List of Regional Contacts
Service region | States or territory where the project will occur | Where to send your PSGP project proposal | Regional PSGP contact and phone no.
Region 1 | Hawaii, Idaho, Oregon, Washington, American Samoa, Guam, and Commonwealth of the Northern Mariana Islands | Regional Director U.S. Fish and Wildlife Service Eastside Federal Complex 911 N.E. 11th Avenue Portland, OR 97232-4181 | Heather Hollis (503/231-6241).
Region 1 | California and Nevada | Office Manager U.S. Fish and Wildlife Service Federal Building, 2800 Cottage Way, Room W-2606 Sacramento, CA 95825-1846 | Miel Corbett (916/414-6464).
Region 2 | Arizona, New Mexico, Oklahoma, and Texas | Regional Director U.S. Fish and Wildlife Service 500 Gold Avenue SW., Room 4012 Albuquerque, NM 87102 | Susan MacMullin (505/248-6671).
Region 3 | Illinois, Indiana, Iowa, Michigan, Minnesota, Missouri, Ohio, and Wisconsin | Regional Director U.S. Fish and Wildlife Service Bishop Henry Whipple Federal Building One Federal Drive Fort Snelling, MN 55111-4056 | Peter Fasbender (612/713-5343).
Region 4 | Alabama, Arkansas, Florida, Georgia, Kentucky, Louisiana, Mississippi, North Carolina, South Carolina, Tennessee, Puerto Rico, and the U.S. Virgin Islands | Regional Director U.S. Fish and Wildlife Service 1875 Century Boulevard, Suite 200 Atlanta, GA 30345 | Noreen Walsh (404/679-7085).
Region 5 | Connecticut, Delaware, District of Columbia, Maine, Maryland, Massachusetts, New Hampshire, New Jersey, New York, Pennsylvania, Rhode Island, Vermont, Virginia, and West Virginia | Regional Director U.S. Fish and Wildlife Service 300 Westgate Center Drive Hadley, MA 01035-9589 | Diane Lynch (413/253-8628).
Region 6 | Colorado, Kansas, Montana, Nebraska, North Dakota, South Dakota, Utah, and Wyoming | Regional Director U.S. Fish and Wildlife Service P.O. Box 25486 Denver Federal Center Denver, CO 80225-0486 | Pat Mehlhop (303/236-7400 ext. 225).
Region 7 | Alaska | Regional Director U.S. Fish and Wildlife Service 1011 East Tudor Road, Anchorage, AK 99503-6199 | Susan Detwiler (907/786-3868).

Authority

This notice is published under the authority of the Department of the Interior and Related Agencies Appropriations Act, 2002, H.R. 2217/Public Law 107-63.

Dated: October 31, 2002.
Paul Hoffman,
Acting Assistant Secretary for Fish and Wildlife and Parks.

[FR Doc. 02-29352 Filed 11-18-02; 8:45 am]

BILLING CODE 4310-55-P